DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and Title 30 of the Code of Federal Regulations govern the application, processing, and disposition of petitions for modification of mandatory safety standards. Any mine operator or representative of miners may petition for an alternative method of complying with an existing safety standard. MSHA reviews the content of each submitted petition, assesses the mine in question, and ultimately issues a decision on the petition. This notice includes a list of petitions for modification that were granted after MSHA's review and investigation, between July 1, 2021 and December 31, 2021.

ADDRESSES: Copies of the final decisions are posted on MSHA's website at https://www.msha.gov/regulations/rulemaking/petitions-modification. The public may also inspect the petitions and final decisions in person at MSHA, Office of Standards, Regulations, and Variances, 201 12th Street South, Arlington, Virginia, between 9:00 a.m. and 5:00 p.m. Monday through Friday, except federal holidays. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), petitionsformodification@dol.gov (email), or 202-693-9441 (facsimile). [These are not toll-free numbers.]

SUPPLEMENTARY INFORMATION:

I. Introduction

Under section 101 of the Federal Mine Safety and Health Act of 1977, any mine operator or representative of miners may petition to use an alternative approach to comply with a mandatory safety standard. In response, the Secretary of Labor (Secretary) or his or her designee may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision. In other instances, MSHA may deny, dismiss, or revoke a petition for modification. In accordance with 30 CFR 44.5, MSHA publishes every final action granting a petition for modification.

II. Granted Petitions for Modification

On the basis of the findings of MSHA's investigation, and as designee of the Secretary, MSHA granted or partially granted the petitions for modification below. Since the previous Federal Register notice (86 FR 41519) included petitions granted through June 30, 2021, listed below are petitions granted between July 1, 2021 and December 31, 2021. The granted petitions are shown in the order that MSHA received them.

• Docket Number: M-2020-009-C.

FR Notice: 85 FR 47404 (8/5/2020).

Petitioner: Century Mining LLC, 200 Chapel Brook Drive, Bridgeport, West Virginia 26330.

Mine: Longview Mine, MSHA I.D. No. 46-09447, located in Barbour County, West Virginia.

Regulation Affected: 30 CFR 75.500(d) (Permissible electric equipment).

• Docket Number: M-2020-023-C.

FR Notice: 85 FR 66582 (10/20/2020).

Petitioner: Century Mining LLC, 200 Chapel Brook Drive, Bridgeport, West Virginia 26330.

Mine: Longview Mine, MSHA I.D. No. 46-09447, located in Barbour County, West Virginia.

Regulation Affected: 30 CFR 75.507-1 (Electric equipment other than power-connection points; outby the last open crosscut; return air; permissibility requirements.).

• Docket Number: M-2020-025-C.

FR Notice: 85 FR 66582 (10/20/2020).

Petitioner: Century Mining LLC, 200 Chapel Brook Drive, Bridgeport, West Virginia 26330.

Mine: Longview Mine, MSHA I.D. No. 46-09447, located in Barbour County, West Virginia.

Regulation Affected: 30 CFR 75.1002 (Installation of electric equipment and conductors; permissibility.)

• Docket Number: M-2021-002-C.

FR Notice: 86 FR 16641 (3/30/2021).

Petitioner: Blue Mountain Energy, Inc., 3607 County Road #65, Rangely, Colorado 81648.

Mine: Deserado Mine, MSHA ID No. 05-03505, located in Rio Blanco County, Colorado.

Regulation Affected: 30 CFR 75.507-1(a) (Electric equipment other than power-connection points; outby the last open crosscut; return air; permissibility requirements).

• Docket Number: M-2021-003-C.

FR Notice: 86 FR 16641 (3/30/2021).

Petitioner: Blue Mountain Energy, Inc., 3607 County Road #65, Rangely, Colorado 81648.

Mine: Deserado Mine, MSHA ID No. 05-03505, located in Rio Blanco County, Colorado.

Regulation Affected: 30 CFR 75.500(d) (Permissible electric equipment).

• Docket Number: M-2021-004-C.

FR Notice: 86 FR 16641 (3/30/2021).

Petitioner: Blue Mountain Energy, Inc., 3607 County Road #65, Rangely, Colorado 81648.

Mine: Deserado Mine, MSHA ID No. 05-03505, located in Rio Blanco County, Colorado.

Regulation Affected: 30 CFR 75.1002(a) (Installation of electric equipment and conductors; permissibility).

• Docket Number: M-2021-005-C.

FR Notice: 86 FR 16644 (3/30/2021).

Petitioner: Blue Diamond Mining, LLC, 1021 Tori Drive, Hazard, Kentucky, 41701.

Mine: Calvary Mine #81, MSHA ID No. 15-12753, located in Leslie County, Kentucky.

Regulation Affected: 30 CFR 75.364 (Weekly examination). 30 CFR 75.364(b)(2) requires that at least every 7 days an examination for hazardous conditions shall be made by a certified person designated by the operator in at least one entry of each return air course, in its entirety, so that the entire air course is traveled.

• Docket Number: M-2021-007-C.

FR Notice: 86 FR 27898 (5/24/2021).

Petitioner: Mountain Coal Company, L.L.C., 5174 Highway 133, Somerset, Colorado, 81434.

Mine: West Elk Mine, MSHA ID No. 05-03672, located in Gunnison County, Colorado.

Regulation Affected: 30 CFR 75.507-1(a) (Electric equipment other than power-connection points; outby the last open crosscut; return air; permissibility requirements).

• Docket Number: M-2021-009-C.

FR Notice: 86 FR 27898 (5/24/2021).

Petitioner: Mountain Coal Company, L.L.C., 5174 Highway 133, Somerset, Colorado, 81434.

Mine: West Elk Mine, MSHA ID No. 05-03672, located in Gunnison County, Colorado.

Regulation Affected: 30 CFR 75.1002(a) (Installation of electric equipment and conductors; permissibility).

• Docket Number: M-2021-004-M.

FR Notice: 86 FR 38360 (7/20/2021).

Petitioner: Genesis Alkali, LLC, 580 Westvaco Rd., Green River, Wyoming, 82935.

Mine: Genesis Alkali @WESTVACO, MSHA ID No. 48-00152, located in Sweetwater County, Wyoming.

Regulation Affected: 30 CFR 57.22305 (Approved equipment (III mines)).

• Docket Number: M-2021-026-C.

FR Notice: 86 FR 46018 (8/17/21).

Petitioner: Marion County Coal Resources, Inc., 151 Johnnycake Road, Metz, West Virginia (Zip 26585).

Mine: Marion County Mine, MSHA ID No. 46-01433, located in Marion County, West Virginia.

Regulation Affected: 30 CFR 75-1700 (Oil and gas wells).

Song-ae Aromie Noe,
Acting Director, Office of Standards, Regulations, and Variances.

[FR Doc. 2022-03767 Filed 2-22-22; 8:45 am]

BILLING CODE 4520-43-P